DEPARTMENT OF TRANSPORTATION

Federal Aviation Administration

14 CFR Part 39

[Docket No. 2002-NM-179-AD; Amendment 39-13299; AD 2003-18-08]

RIN 2120-AA64

Airworthiness Directives; Airbus Model A310 Series Airplanes

AGENCY: Federal Aviation Administration, DOT.

ACTION: Final rule.

SUMMARY: This amendment adopts a new airworthiness directive (AD), applicable to all Airbus Model A310 series airplanes, that requires electrical conductivity testing to verify the correct heat treatment of the two half fittings holding the ejection jack for the ram air turbine (RAT). This action is necessary to prevent decreased structural integrity of the two half fittings and loss of the RAT during extension, which could lead to reduced controllability of the airplane in the event of a dual engine failure, or in the event of loss of two or all hydraulic systems. This action is intended to address the identified unsafe condition.

DATES: Effective October 16, 2003.

The incorporation by reference of certain publications listed in the regulations is approved by the Director of the Federal Register as of October 16, 2003.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: A proposal to amend part 39 of the Federal Aviation Regulations (14 CFR part 39) to include an airworthiness directive (AD) that is applicable to all Airbus Model A310 series airplanes was published in the Federal Register on June 18, 2003 (68 FR 36504). That action proposed to require electrical conductivity testing to verify the correct heat treatment of the two half fittings holding the ejection jack for the ram air turbine (RAT).

Comments

Interested persons have been afforded an opportunity to participate in the making of this amendment. No comments were submitted in response to the proposal or the FAA's determination of the cost to the public.

Conclusion

After careful review of the available data, the FAA has determined that air safety and the public interest require the adoption of the rule as proposed.

Change to Labor Rate Estimate

Since issuing the proposal, we have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that 48 airplanes of U.S. registry will be affected by this AD, that it will take approximately 1 work hour per airplane to accomplish the required actions, and that the average labor rate is $65 per work hour. Based on these figures, the cost impact of the proposed AD on U.S. operators is estimated to be $3,120, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-18-08 Airbus: Amendment 39-13299. Docket 2002-NM-179-AD.

Applicability: All Model A310 series airplanes, certificated in any category.

Compliance: Required as indicated, unless accomplished previously.

To prevent decreased structural integrity of the two half fittings and loss of the ram air turbine (RAT) during extension, which could lead to reduced controllability of the airplane in the event of a dual engine failure, or in the event of loss of two or all hydraulic systems, accomplish the following:

Service Bulletin References

(a) The following information pertains to the service bulletin referenced in this AD:

(1) The term “service bulletin,” as used in this AD, means the Accomplishment Instructions of Airbus Service Bulletin A310-57A2084, excluding Appendix 01, dated May 3, 2002.

(2) Although the service bulletin referenced in this AD specifies to submit information to the manufacturer, this AD does not include such a requirement.

Conductivity Test

(b) Within 600 flight hours after the effective date of this AD, perform a one-time electrical conductivity test of the two half fittings holding the RAT ejection jack, to verify correct heat treatment of the half fittings, per the service bulletin.

(1) If correct heat treatment of the two half fittings is verified, no further action is required by this paragraph.

(2) If incorrect heat treatment of any half fitting is found by the test performed in paragraph (b) of this AD, perform a detailed inspection of the two half fittings for any cracking or corrosion, per the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(c) For any half fittings that require a detailed inspection per paragraph (b)(2) of this AD: Do the actions specified in paragraph (c)(1) or (c)(2) of this AD, as applicable, per the service bulletin.

(1) If no cracking or corrosion is found: Within one year after the effective date of this AD, replace the two half fittings with half fittings having part number A5721023800000 that have successfully passed the electrical conductivity test, per the service bulletin.

(2) If any cracking or corrosion is found: Before further flight, replace the two half fittings with half fittings having part number A5721023800000 that have successfully passed the electrical conductivity test, per the service bulletin.

Parts Installation

(d) As of the effective date of this AD, no person shall install a half fitting having part number A5721023800000 that has not successfully passed the electrical conductivity test per the service bulletin, on any airplane.

Alternative Methods of Compliance

(e) In accordance with 14 CFR 39.19, the Manager, ANM-116, FAA, is authorized to approve alternative methods of compliance for this AD.

Incorporation by Reference

(f) The actions shall be done in accordance with Airbus Service Bulletin A310-57A2084, excluding Appendix 01, dated May 3, 2002. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 2: The subject of this AD is addressed in French airworthiness directive 2002-263(B), dated May 15, 2002.

Effective Date

(g) This amendment becomes effective on October 16, 2003.

Issued in Renton, Washington, on August 29, 2003.
Vi L. Lipski,
Manager, Transport Airplane Directorate, Aircraft Certification Service.

[FR Doc. 03-22708 Filed 9-10-03; 8:45 am]

BILLING CODE 4910-13-P